DEPARTMENT OF LABOR

Employment and Training Administration

[TA-W-51,049]

Raytheon Aircraft Company, Wichita, KS; Notice of Negative Determination Regarding Application for Reconsideration

By application of June 13, 2003, the International Association of Machinists and Aerospace Workers, District Lodge No. 70, requested administrative reconsideration of the Department's negative determination regarding eligibility to apply for Trade Adjustment Assistance (TAA), applicable to workers and former workers of the subject firm. The denial notice was signed on May 14, 2003, and published in the Federal Register on June 3, 2003 (68 FR 33196).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The petition for the workers of Raytheon Aircraft Company, Wichita, Kansas was denied because the “contributed importantly” group eligibility requirement of section 222(3) of the Trade Act of 1974, as amended, was not met. The “contributed importantly” test is generally demonstrated through a survey of customers of the workers' firm. The survey revealed that none of the respondents increased their purchases of imported small business jets. The company did not import small business jets, and workers are not separately identifiable by product line nor did the company shift production to a foreign source.

The union alleges that the company is importing components for the JATAPs trainer planes produced at the subject facility.

A company official was contacted in regard to these issues. As a result, it was revealed that aft fuses, ribsets and harnesses are being built by both a Greek manufacturer and at the Wichita facility for planes sold to both the U.S. government and the Greek government. The investigation further revealed that the foreign production has not affected production levels at the Wichita facility, have not resulted in layoffs at the subject facility, and represent a negligible percentage of overall plant production.

The union further appears to allege that the company is importing an electrical systems integrator from the Netherlands, and is importing other components from a foreign firm known as Folker Elmo.

Contact with the company revealed that components for the Hawker Horizon (a new midsize jet that is significantly more powerful and larger than planes currently produced at Raytheon) are being built by Folker Elmo in the Netherlands. The company official further clarified that this is the only production built in the Netherlands. Since this production has never been produced at the subject firm, and the final product is not like or directly competitive with those produced at the subject firm, this production has no bearing on subject firm workers' ability to meet the relevant criterion for TAA eligibility.

Conclusion

After review of the application and investigative findings, I conclude that there has been no error or misinterpretation of the law or of the facts which would justify reconsideration of the Department of Labor's prior decision. Accordingly, the application is denied.

Signed at Washington, DC this 1st day of August, 2003.
Elliott S. Kushner,
Certifying Officer, Division of Trade Adjustment Assistance.

[FR Doc. 03-21018 Filed 8-15-03; 8:45 am]

BILLING CODE 4510-30-P